DEPARTMENT OF ENERGY

Western Area Power Administration

Searchlight Wind Energy Project Record of Decision (DOE/EIS-0413)

AGENCY: Western Area Power Administration, DOE.

ACTION: Record of Decision.

SUMMARY: Western Area Power Administration (Western), an agency within the U.S. Department of Energy (DOE), received a request from Searchlight Wind Energy, LLC (Searchlight) to interconnect its proposed Searchlight Wind Energy Project (Project) to Western's Davis-Mead 230-kilovolt (kV) transmission line. The Project would be located in southern Clark County, Nevada, near the town of Searchlight. On December 14, 2012, the Notice of Availability of the Final Environmental Impact Statement (EIS) for Searchlight Wind Energy Project was published in the Federal Register (77 FR 74479). The U.S. Department of Interior, Bureau of Land Management (BLM) was the lead Federal agency for the EIS. Western was a cooperating agency in preparation of the EIS. After considering the environmental impacts, Western has decided to allow Searchlight's request for interconnection to Western's transmission system on its Davis-Mead transmission line and to construct, own, and operate a new switching station to accommodate the interconnection.

FOR FURTHER INFORMATION CONTACT: For further information, please contact Mr. Matt Blevins, Corporate Services Office, Western Area Power Administration, A7400, P.O. Box 281213, Lakewood, CO 80228-8213, telephone (720) 962-7261, fax (720) 962-7263, or email: blevins@wapa.gov. For general information on DOE's National Environmental Policy Act of 1969 (NEPA) review process, please contact Carol M. Borgstrom, Director, Office of NEPA Policy and Compliance, GC-54, U.S. Department of Energy, Washington, DC 20585, telephone (202) 586-4600 or (800) 472-2756.

SUPPLEMENTARY INFORMATION: Western is a Federal agency under the DOE that markets and transmits wholesale electrical power through an integrated 17,000-circuit mile, high-voltage transmission system across 15 western states. Western's Open Access Transmission Service Tariff (Tariff) provides open access to its electric transmission system. In reviewing interconnection requests, Western must ensure that existing reliability and service is not degraded. Western's Large Generator Interconnection Procedures provide for transmission and system studies to ensure that system reliability and service to existing customers are not adversely affected by new interconnections.

Interested parties were notified of the proposed Project and the public scoping comment opportunity through a Notice of Intent published in the Federal Register on December 16, 2008 (73 FR 76377). The BLM published a Notice of Availability (NOA) of the Draft EIS in the Federal Register on January 12, 2012 (77 FR 2999). The NOA also announced a 90-day public comment period for receipt of comments on the Draft EIS. On December 14, 2012, the U.S. Environmental Protection Agency (EPA) published an NOA of the Final EIS for the Project in the Federal Register (77 FR 74479).¹ The BLM published its NOA for its Record of Decision (ROD) on March 22, 2013, in the Federal Register (78 FR 17718). With the issuance of its ROD, BLM included errata to the Final EIS, and its right-of-way authorization for Western's switching station.

¹ The Final EIS can be found on the BLM Web site at: http://www.blm.gov/nv/st/en/fo/lvfo/blm_programs/energy/searchlight_wind_energy.html.

The BLM was the lead Federal agency for the EIS. Western and the U.S. Department of the Interior, National Park Service participated as cooperating agencies on the EIS. After an independent review of the Final EIS, Western has concluded that its needs are satisfied and has adopted the Final EIS, including the errata sheet issued in BLM's ROD.

Proposed Federal Action

Western's proposed Federal action is to construct, own, and operate a new switching station to interconnect the Project with Western's transmission system. The new switching station would be on BLM-administered land located just west of Western's existing Davis-Mead 230-kV transmission line, approximately 7.5 miles east of the town of Searchlight, and approximately 150 feet north of a National Park Service fee station on Cottonwood Cove Road.

Searchlight Proposed Project

Searchlight proposes to construct and operate a utility-scale wind energy facility in an area encompassing approximately 18,949 acres on BLM-administered lands. The wind energy generating facility would generate up to 220 megawatts (MW) of electricity from wind turbine generators (WTGs). The proposed Project includes a wind energy facility and a 230-kV transmission tie-line. The proposed wind energy facility would include 37.6 miles of improved and new access and service roads, up to 96 WTGs, electrical collection lines, two step-up substations, communications system, operations and maintenance building, and meteorological monitoring towers. A new 230-kV single-circuit electrical transmission tie-line would be constructed between the Project and Western's proposed switching station at its existing Davis-Mead transmission line. Facilities associated with the proposed Project would permanently occupy approximately 160 acres.

Description of Alternatives

With issuance of its ROD, the BLM authorized Searchlight to construct, operate and maintain, and decommission an approximately 200-MW wind energy facility on BLM-administered lands within the same location as described under the proposed Project. This alternative was BLM's preferred alternative and would involve the construction of up to 87 WTGs that would provide up to 200 MW of electricity. Under this alternative, 8.6 miles of road widening and improvement would be required, and 16.3 miles of new roads would be constructed. Facilities associated with this alternative would permanently occupy approximately 152 acres. Western would construct the new switching station; the same as Western proposed Federal action, and Searchlight would construct the transmission tie-line as described under the proposed Project.

Initially, the BLM considered two additional alternatives: A 161 WTG Layout Alternative and a 140 WTG Layout Alternative. The 161 WTG Alternative was Searchlight's original proposal developed to maximize the power generation potential of the site. The 140 WTG Alternative was developed to reduce impacts on visual resources and air traffic safety in the area. However, based on public scoping meeting input, agency discussions, and further analyses both of these alternatives were rejected based on the potential for environmental impacts and technical and economic considerations and eliminated from further analysis.

Western considered three additional alternatives for siting the proposed switching station, but eliminated these sites from further analysis for technical reasons. Western's primary selection criteria was to locate the switching station close to the Davis-Mead transmission line and meet the BLM resource planning requirements, including siting the switching station outside of special management designation lands, except for a 0.5-mile area adjacent to a federally-designated highway.

Western has identified the No Action Alternative as its environmentally preferred alternative. Under this alternative, Western would deny the interconnection request and not modify its transmission system to interconnect the proposed Project with its transmission system. Under this alternative, there would be no modifications to Western's transmission system, and thus no new environmental impacts.

Mitigation Measures

For the wind facility component of the proposed Project, Searchlight has committed to best management practices and design features addressed as Applicant's Proposed Measures in the EIS. In addition, the wind energy portion of the project would adhere to BLM wind energy development program policies and best management practices. Searchlight will abide by the Biological Opinion issued by the U.S. Fish and Wildlife Service and as conditioned by BLM in its right-of-way authorization for the proposed Project. Western will abide by the Biological Opinion as it pertains to Western's switching station and as conditioned by BLM in its right-of-way authorization to Western.

In compliance with the National Historic Preservation Act, BLM has executed a Programmatic Agreement with the Nevada State Historic Preservation Office and Searchlight (as an invited signatory). Western is a concurring party to the Programmatic Agreement.

For Western's proposed switching station, Western requires its construction contractors to implement standard environmental protection provisions. These provisions are provided in Western's Construction Standard 13 (included as an appendix in the Final EIS) and will be applied to the proposed switching station. In addition, specific mitigation measures for the switching station are addressed in the Final EIS and BLM's Record of Decision (ROD), and include requirements for site environmental clearances prior to construction, desert tortoise fencing around the switching station and preparation of a worker environmental awareness program per the Biological Opinion issued for the proposed Project, use of flat tone colors for the switching station intended to blend with the surrounding environment, developing a Memorandum of Understanding to address mitigation for the switching station, and surveying the boundaries of the switching station.

With this decision, Western is adopting the specific mitigation measures that apply to its action and will issue a Mitigation Action Plan before any construction takes place. The plan will address the adopted mitigation measures. When completed, the Mitigation Action Plan will be made available to the public. The mitigation measures in the Final EIS and the BLM ROD reflect all practicable means to avoid or minimize environmental harm from the proposed Project and Western's proposed action.

Comments on the Final EIS

The National Park Service provided comments on the Final EIS to the BLM in a letter dated January 10, 2013, requesting the inclusion of additional mitigation addressing the visual impacts of Western's proposed switching station. In response, the BLM has added mitigation in its ROD that includes developing a Memorandum of Understanding to address mitigation of the switching station. This mitigation will be incorporated into BLM's right-of-way authorization for the switching station. Western has adopted this mitigation and will abide by mitigation stipulations provided by BLM in its right-of-way authorization for the switching station.

The National Parks Conservation Association (Association) submitted comments on the Final EIS to the BLM in a letter dated January 14, 2013. The Association noted that its comments on the Draft EIS were omitted from the Final EIS. Its comments on the Draft EIS noted that the proposed switching station, an industrial facility with chain link fence, would be built next to Lake Mead National Recreation Area's newly constructed Cottonwood Cove Visitor Entrance Station, negatively impacting visitor experience to the National Recreation Area. The Association also questioned the location of the proposed switching station in relation to the Piute-Eldorado Valley Area of Critical Environmental Concern and a 100-year floodplain. Western has adopted BLM's Final EIS errata addressing the Association's comments on the Draft EIS.

In its January 14, 2013, letter, the Association also requested that the siting of the switching station along with the station's construction methods and materials be addressed by convening a meeting that includes high-level representatives from Duke Energy, Western, the National Park Service, BLM, and the Association. BLM has added mitigation to its ROD to address the visual impacts of the switching station. Western has adopted this mitigation and will abide by mitigation stipulation provided by BLM in its right-of-way authorization.

The U.S. Environmental Protection Agency, the Nevada Department of Wildlife, the Desert Conversation Program, an individual, and an official of Save the Eagles International also provided comments on the Final EIS. However, none of these comments involved Western's participation or its proposed switching station.

Based on a review of the comments provided on the Final EIS related to Western's switching station, Western has determined that the comments do not present any significant new circumstances or information relevant to environmental concerns and bearing on the Project or its impacts, and a Supplemental EIS is not required.

Decision

Western's decision is to allow Searchlight's request for interconnection to Western's transmission system at its Davis-Mead transmission line, and to construct, own, and operate a new switching station.² Western's decision to grant this interconnection request satisfies the agency's statutory mission and Searchlight's objectives while minimizing harm to the environment. Full implementation of this decision is contingent upon Searchlight obtaining all other applicable permits and approvals as well as executing an interconnection agreement in accordance with Western's Tariff.

² On November 16, 2011, DOE's Acting General Counsel restated the delegation to Western's Administrator all the authorities of the General Counsel respecting environmental impact statements.

This decision is based on the information contained in the Searchlight Wind Energy Project Final EIS, comments received on Draft EIS but not specifically addressed in the Final EIS, and comments received on the Final EIS. This ROD was prepared pursuant to the requirements of the Council on Environmental Quality Regulations for Implementing NEPA (40 CFR parts 1500-1508) and DOE's Procedures for Implementing NEPA (10 CFR part 1021).

Dated: May 6, 2013.
Mark A. Gabriel,
Administrator.

[FR Doc. 2013-11704 Filed 5-15-13; 8:45 am]

BILLING CODE 6450-01-P